DEPARTMENT OF ENERGY

Environmental Management Site-Specific Advisory Board, Savannah River; Notice of Open Meeting

AGENCY: Department of Energy.

ACTION: Notice of open meeting.

SUMMARY: This notice announces a meeting of the Environmental Management Site-Specific Advisory Board (EM SSAB), Savannah River. The Federal Advisory Committee Act (Pub. L. No. 92-463, 86 Stat. 770) requires that public notice of these meetings be announced in the Federal Register.

DATES: Monday, November 13, 2000 6:30 p.m.-9:00 p.m. Tuesday, November 14, 2000 8:30 a.m.-4:00 p.m.

ADDRESSES: North Augusta Community Center, 101 Brookside Avenue, North Augusta, SC.

FOR FURTHER INFORMATION CONTACT: Tom Treger, Office of Environmental Quality, Department of Energy Savannah River Operations Office, P.O. Box A, Aiken, SC, 29802; Phone: (803) 725-1958.

SUPPLEMENTARY INFORMATION: Purpose of the Board: The purpose of the Board is to make recommendations to DOE and its regulators in the areas of environmental restoration, waste management, and related activities.

Tentative Agenda:

Monday, November 13, 2000

6:30 p.m.-7:00 p.m. Public comment session

7:00 p.m.-9:00 p.m. Committee meetings

Tuesday, November 14, 2000

8:30 a.m.-9:45 a.m. Approval of minutes; Agency updates; Public comment session; Facilitator update; Committee report; Bylaws Amendment process; Presentation of 2001 membership candidates

9:45 a.m.-10:30 a.m. Nuclear Materials Committee Report

10:30 a.m-12:00 p.m. SRS Planning Process Review and public comments

1:00 p.m.-1:30 p.m. Strategic and long term issues

1:30 p.m.-3:00 p.m. Waste Management Committee Report

3:00 p.m.-4:00 p.m. Environmental Remediation Committee; Packaging and Transportation Symposium trip report; Public comments

If needed, time will be allotted after public comments for items added to the agenda, and administrative details. A final agenda will be available at the meeting, Monday, November 13.

Public Participation: The meeting is open to the public. Written statements may be filed with the Board either before or after the meeting. Individuals who wish to make the oral statements pertaining to agenda items should contact Tom Treger's office at the address or telephone listed above. Requests must be received five days prior to the meeting and reasonable provision will be made to include the presentation in the agenda. The Deputy Designated Federal Officer is empowered to conduct the meeting in a fashion that will facilitate the orderly conduct of business. Each individual wishing to make public comment will be provided equal time to present their comments.

Minutes: The minutes of this meeting will be available for public review and copying at the Freedom of Information Public Reading Room, 1E-190, Forrestal Building, 1000 Independence Avenue, SW., Washington, DC, 20585 between 9:00 a.m. and 4:00 p.m., Monday through Friday, except Federal holidays. Minutes will also be available by writing to Tom Treger, Department of Energy Savannah River Operations Office, PO Box A, Aiken, SC, 29802, or by calling him at (803) 725-1958.

Issued at Washington, DC on October 13, 2000.
Rachel M. Samuel,
Deputy Advisory Committee Management Officer.

[FR Doc. 00-26891 Filed 10-18-00; 8:45 am]

BILLING CODE 6450-01-P